DEPARTMENT OF ENERGY

Federal Energy Regulatory Commission

Combined Notice of Filings

Take notice that the Commission has received the following Natural Gas Pipeline Rate and Refund Report filings:

Filings Instituting Proceedings

Docket Numbers: RP16-314-000.

Applicants: Columbia Gas Transmission, LLC.

Description: Offer of Settlement [including Pro Forma sheets] and Petition for Approval of Settlement of Columbia Gas Transmission, LLC under RP16-314.

Filed Date: 12/18/15.

Accession Number: 20151218-5202.

Comments Due: 5 p.m. ET 1/6/16.

Docket Numbers: RP16-329-000.

Applicants: Transwestern Pipeline Company, LLC.

Description: § 4(d) rate filing per 154.204: Btu Provision to be effective 2/1/2016.

Filed Date: 12/30/15.

Accession Number: 20151230-5068.

Comments Due: 5 p.m. ET 1/11/16.

Docket Numbers: RP16-330-000.

Applicants: Transwestern Pipeline Company, LLC.

Description: § 4(d) rate filing per 154.204: Flow Control Provision to be effective 2/1/2016.

Filed Date: 12/30/15.

Accession Number: 20151230-5077.

Comments Due: 5 p.m. ET 1/11/16.

Docket Numbers: RP16-331-000.

Applicants: Transwestern Pipeline Company, LLC.

Description: Compliance filing per 154.203: Baseline Filing Volume No. 1-A to be effective 1/1/2016.

Filed Date: 12/30/15.

Accession Number: 20151230-5087.

Comments Due: 5 p.m. ET 1/11/16.

Docket Numbers: RP16-332-000.

Applicants: Transwestern Pipeline Company, LLC.

Description: § 4(d) rate filing per 154.204: Update Non-Conforming Agreements List to be effective 1/1/2016.

Filed Date: 12/30/15.

Accession Number: 20151230-5089.

Comments Due: 5 p.m. ET 1/11/16.

Docket Numbers: RP16-333-000.

Applicants: Iroquois Gas Transmission System, L.P.

Description: § 4(d) rate filing per 154.204: 12/30/15 Negotiated Rates—MMGS Inc. (RTS) 7625-02 & -03 Amd 1 to be effective 12/1/2015.

Filed Date: 12/30/15.

Accession Number: 20151230-5097.

Comments Due: 5 p.m. ET 1/11/16.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 30, 2015.
Nathaniel J. Davis, Sr.,
Deputy Secretary.

[FR Doc. 2015-33318 Filed 1-6-16; 8:45 am]

BILLING CODE 6717-01-P